DEPARTMENT OF COMMERCE

Foreign-Trade Zones Board

[Docket 15-2001]

Foreign-Trade Zone 47—Boone County, Kentucky Application for Expansion

An application has been submitted to the Foreign-Trade Zones (FTZ) Board (the Board), by the Greater Cincinnati Foreign Trade Zone, Inc., grantee of FTZ 47, requesting authority to expand its zone to include an additional site in Boone County, Kentucky, within the Cincinnati Customs port of entry. The application was submitted pursuant to the provisions of the Foreign-Trade Zones Act, as amended (19 U.S.C. 81a-81u), and the regulations of the Board (15 CFR Part 400). It was formally filed on March 12, 2001.

FTZ 47 was approved on January 12, 1979 (Board Order 141, 44 FR 4003, 1/19/79) and expanded on December 23, 1993 (Board Order 674, 59 FR 1371, 1/10/94). The general-purpose zone project currently consists of the following site: Site 1 (22 acres)—located at Dolwick and Interstate Drives, within the Northern Kentucky Business Center, Boone County, 3 miles from the Greater Cincinnati International Airport.

The applicant is now requesting authority to expand the general-purpose zone to include an additional site in Boone County, Kentucky: Proposed Site 2 (185 acres)—Park West International Industrial Park, Exit #7 off I-275 at the northwest quadrant of the interchange, approximately three miles from the Greater Cincinnati International Airport. The site is owned by Industrial Developments International and PM Realty Advisors. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is May 21, 2001. Rebuttal comments in response to material submitted during the foregoing period may be submitted during the subsequent 15-day period (to June 5, 2001).

A copy of the application and accompanying exhibits will be available for public inspection at each of the following locations:

U.S. Department of Commerce, International Trade Administration, Export Assistance Center, Cincinnati, 36 East 7th Street, Suite 2650, Cincinnati, OH 45202

Office of the Executive Secretary, Foreign-Trade Zones Board, Room 4008, U.S. Department of Commerce, 14th & Pennsylvania Avenue, NW., Washington, DC 20230

Dated: March 14, 2001.
Dennis Puccinelli,
Executive Secretary.

[FR Doc. 01-7143 Filed 3-21-01; 8:45 am]

BILLING CODE 3510-DS-P